ENVIRONMENTAL PROTECTION AGENCY

[ER-FRL-6672-7]

Environmental Impact Statements; Notice of Availability

Responsible Agency: Office of Federal Activities, General Information (202) 564-7167 or http://www.epa.gov/compliance/nepa/

Weekly receipt of Environmental Impact Statements

Filed 02/13/2006 Through 02/17/2006

Pursuant to 40 CFR 1506.9.

EIS No. 20060047, Draft Supplement, AFS, CA, Empire Vegetation Management Project, Additional Information to Clarify Previous Analysis, Vegetation, Fire/Fuels/Air Quality, Wildlife, Watershed, and Botanical Resource/Noxious Weeds, Mount Hough Ranger District, Plumas National Forest, Plumas County, CA. Comment Period Ends: 04/10/2006, Contact: Gary Rotta 530-283-0555.

EIS No. 20060048, Draft EIS, FRC, CA, Lake Elsinore Advanced Pumped Storage (LEAPS) Project, Construction and Operation, Application for Hydroelectric License, Special-Use-Permit, FERC No. 11858, City of Lake Elsinore, Riverside County, CA. Comment Period Ends: 04/25/2006, Contact: James Fargo 202-502-6095.

EIS No. 20060049, Final EIS, FHW, AK, South Extension of the Coastal Trail Project, Extending the existing Tony Knowles Coastal Trail from Kincaid Park through the Project Area to the Potter Weigh Station, COE Section 10 and 404 Permit, Municipality of Anchorage, Anchorage, AK. Wait Period Ends: 03/27/2006, Contact: Tim A. Haugh 907-586-7418.

EIS No. 20060050, Revised Draft EIS, COE, FL, Central and Southern Florida Project, Revised Draft Integrated Project Implementation Report, Comprehensive Restoration Plan, Implementation, Everglades Agricultural Area Storage Reservoirs, Palm Beach County, FL. Comment Period Ends: 04/10/2006, Contact: Rebecca Weiss 904-232-1577.

EIS No. 20060051, Final Supplement, AFS, CO, Sheep Flats Diversity Unit, Timber Sales and Related Road Construction, Additional Information Concerning Management Indicator Species and Sensitive Species, Grand Mesa Uncompahgre and Gunnison National Forests, Grand Valley Ranger District, Mesa County, CO. Wait Period Ends: 03/27/2006, Contact: Carol McKenzie 208-634-0761.

EIS No. 20060052, Draft EIS, NRC, MI, Generic—License Renewal of Nuclear Plants, Supplement 27 to NUREG-1437, Regarding Palisade Nuclear Plant, Located in Covert Township, Van Buren County, MI. Comment Period Ends:05/18/2006, Contact: Bo M. Pham 301-415-8450.

EIS No. 20060053, Draft EIS, AFS, CA, Slapjack Project, Protect Rural Communities from Fire Hazards by Constructing Defensible Fuel Profile Zones (DFPZs), Feather River Ranger District, Plumas National Forest, Butte and Yuba Counties, CA. Comment Period Ends: 04/10/2006, Contact: Susan Joyce 530-532-7437.

EIS No. 20060054, Final Supplement, NOA, 00, Reef Fish (Amendment 25 ) and Coastal Migratory Pelagics (Amendment 17) for Extending the Charter Vessel/Headboat Permit Moratorium, Gulf of Mexico and South Atlantic. Wait Period Ends: 03/27/2006, Contact: Roy E. Crabtree, Ph.D 727-824-5301.

EIS No. 20060055, Draft Supplement, AFS, WY, Dean Project Area, Proposes to Implement Multiple Resource Management Actions, New Information to Disclose Direct, Indirect, and Cumulative Environmental Impacts, Black Hills National Forest, Bearlodge Ranger District, Sundance, Crook County, WY. Comment Period Ends: 04/10/2006, Contact: Steve Kozel 307-283-1361.

EIS No. 20060056, Draft Supplement, IBR, CA, Central Valley Project, West San Joaquin Division, Additional Information, San Luis Unit Long-Term Water Service Contract Renewal, Cities of Avenal, Coalinga and Huron, Fresno, King and Merced Counties, CA. Comment Period Ends: 04/10/2006, Contact: Shane Hunt 559-487-5138.

EIS No. 20060057, Final EIS, NPS, OH, Fallen Timbers Battlefield and Fort Miamis National Historic Site, General Management Plan, Implementation, Lucas County, OH. Wait Period Ends: 03/27/2006, Contact: James Speck 419-535-3057.

EIS No. 20060058, Final Supplement, AFS, CO, Baylor Park Blowdown Project, New Information, Salvage and Treat Down and Damaged Timber, To Reduce Impact of Spruce Beetles, Implementation, White River National Forest, Sopris and Rifle Ranger District, Garfield, Mesa and Pitkin Counties, CO. Wait Period Ends: 03/27/2006, Contact: Jan Burke 970-945-3246.

EIS No. 20060059, Final EIS, USA, PA, Pennsylvania Army National Guard's 56th Brigade Transformation into a Stryker Brigade Combat Team (SBCT), Proposal to Comply with this Directive, near Annville, PA. Wait Period Ends: 03/27/2006, Contact: Patricia Rickard 717-861-2580.

Amended Notices

EIS No. 20050546, Draft EIS, BLM, ID, Smoky Canyon Mine Panels F & G, Proposed Mine Expansion, Caribou County, ID. Comment Period Ends: 03/18/2006, Contact: Bill Stout 208-478-6340.

Revision of FR Notice Published 12/30/2005: Comment Period has been extended from 03/03/2006 to 03/18/2006.

Dated: February 21, 2006.
Ken Mittelholtz,
Environmental Protection Specialist, Office of Federal Activities.

[FR Doc. E6-2662 Filed 2-23-06; 8:45 am]

BILLING CODE 6560-50-P